DEPARTMENT OF COMMERCE

International Trade Administration

[A-428-840]

Lightweight Thermal Paper From Germany: Notice of Amended Final Results of the 2009-2010 Antidumping Duty Administrative Review

AGENCY: Import Administration, International Trade Administration, Department of Commerce.

SUMMARY: On April 9, 2012, the Department of Commerce (the Department) published its final results of the 2009-2010 administrative review for lightweight thermal paper (LWTP) from Germany for the period from November 1, 2009, through October 31, 2010. We are amending our final results to correct a ministerial error made to the weighted average dumping margin with respect to Papierfabrik August Koehler AG (Koehler), pursuant to section 751(h) of the Tariff Act of 1930, as amended (the Act).

DATES: Effective Date: May 16, 2012.

FOR FURTHER INFORMATION CONTACT: Stephanie Moore, AD/CVD Operations, Office 3, Import Administration, International Trade Administration, U.S. Department of Commerce, 14th Street and Constitution Avenue NW., Washington, DC 20230; telephone: (202) 482-3692.

SUPPLEMENTARY INFORMATION:

Background

On April 9, 2012, the Department published its final results of the 2009-2010 administrative review for LWTP from Germany for the period from November 1, 2009, through October 31, 2010.¹

¹ See Lightweight Thermal Paper From Germany: Notice of Final Results of the 2009-2010 Antidumping Duty Administrative Review, 77 FR 21082 (April 9, 2012) (Final Results).

On April 11, 2012, pursuant to 19 CFR 351.224(c), Appleton Papers Inc., (petitioner) alleged that the Department made a ministerial error by assigning an incorrect weighted-average margin of 3.99 percent with respect to Koehler, and requested that the Department correct the ministerial error. The Department agrees with the petitioner that it made a ministerial error by assigning an incorrect weighted-average margin of 3.99 percent with respect to Koehler. The Department has corrected this error by assigning Koehler its weighted-average margin of 4.33 percent, as released to the interested parties with the Final Results.²

² See the Department's Memorandum to the File, dated May 9, 2012, titled “Correction of the Cover Page of the Final Calculation Memorandum,” from Stephanie Moore, Case Analyst through James Terpstra, Program Manager.

Amended Final Results of Review

After analyzing petitioner's comment, we have determined, in accordance with section 751(h) of the Act and 19 CFR 351.224, that the Department has made a ministerial error in the final results calculation for Koehler in this administrative review, due to a transcription error. The Department has now corrected Koehler's final weighted-average margin. For a further discussion of the ministerial error, see “Memorandum from James Terpstra to Melissa Skinner, re: Amended Final Results of the Administrative Review of the Antidumping Duty Order on Lightweight Thermal Paper from Germany (Period of Review: November 1, 2009, through October 31, 2010): Allegations of Ministerial Error,” dated May 9, 2012 (Ministerial Error Memo).

In accordance with section 751(h) of the Act, we are amending the final results of the antidumping duty administrative review of LWTP from Germany for the period November 1, 2009 through October 31, 2010. As a result of correcting the ministerial error discussed above, the following margin applies:

Company | Final margin | Amended final margin
Papierfabrik August Koehler AG | 3.99 percent | 4.33 percent.

Duty Assessment

We have been enjoined from liquidating entries of the subject merchandise produced and exported by Koehler.³ Therefore, we do not intend to issue liquidation instructions to U.S. Customs and Border Protection (CBP) for such entries covered by this administrative review, until the preliminary injunction issued on February 5, 2009, is lifted.

³ On February 5, 2009, the U.S. Court of International Trade issued a preliminary injunction enjoining liquidation of certain entries which are subject to the antidumping duty order on lightweight thermal paper from Germany for entries entered or withdrawn from warehouse for consumption on or after November 20, 2008. Koehler was granted the injunction against liquidation as part of its suit against the International Trade Commission's injury determination in the investigation.

Upon lifting of the injunction, the Department shall determine and CBP shall assess antidumping duties on all appropriate entries. Pursuant to 19 CFR 351.212(b)(1), the Department calculates an assessment rate for each importer of the subject merchandise for each respondent. If any importer-specific assessment rates calculated in the final results are above de minimis (i.e., at or above 0.5 percent), the Department will issue appraisement instructions directly to CBP to assess antidumping duties on appropriate entries.

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceedings Assessment of Antidumping Duties, 68 FR 23954 (May 6, 2003).

Cash Deposit Requirements

The following antidumping duty deposit requirements will be effective upon publication of the amended final results of this administrative review for all shipments of lightweight thermal paper from Germany entered, or withdrawn from warehouse, for consumption on or after the publication date of these final results, as provided for by section 751(a) of the Act: (1) For companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 6.50 percent, the all-others rate established in the less-than-fair-value investigation. See Antidumping Duty Orders: Lightweight Thermal Paper from Germany and the People's Republic of China, 73 FR 70959 (November 24, 2008). These cash deposit requirements shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent increase in antidumping duties by the amount of antidumping and/or countervailing duties reimbursed.

Notification Regarding APOs

This notice also serves as a reminder to parties subject to administrative protective orders (APO) of their responsibility concerning the disposition of proprietary information disclosed under APO in accordance with 19 CFR 351.305(a)(5). Timely written notification of the return/destruction of APO materials or conversion to judicial protective order is hereby requested. Failure to comply with the regulations and terms of an APO is a sanctionable violation.

These amended final results of administrative review and notice are issued and published in accordance with sections 751(a)(1) and (h), and 777(i)(1) of the Act, and 19 CFR 351.224.

Dated: May 10, 2012.
Lynn Fischer Fox,
Acting Assistant Secretary for Import Administration.

[FR Doc. 2012-11851 Filed 5-15-12; 8:45 am]

BILLING CODE 3510-DS-P